DEPARTMENT OF ENERGY

Federal Energy Regulatory Commission

Combined Notice of Filings

Take notice that the Commission has received the following Natural Gas Pipeline Rate and Refund Report filings:

Docket Number: PR20-72-000.

Applicants: BBT Mid Louisiana Gas Transmission, LLC.

Description: Tariff filing per 284.123(e)/.224: BBT Mid Louisiana Gas Transmission Cancellation of SOC to be effective 9/2/2020 under PR20-72.

Filed Date: 9/2/2020.

Accession Number: 202009025163.

Comments/Protests Due: 5 p.m. ET 9/23/20.

Docket Numbers: RP20-1167-000.

Applicants: Applicant information is not available at this time. Atms or FOLA not available now.

Description: § 4(d) Rate Filing: Volume No. 2—Table of Contents Clean Up & Nat Fuel SP359400 to be effective 9/1/2020.

Filed Date: 9/3/20.

Accession Number: 20200903-5091.

Comments Due: 5 p.m. ET 9/15/20.

Docket Numbers: RP20-1168-000.

Applicants: Applicant information is not available at this time. Atms or FOLA not available now.

Description: § 4(d) Rate Filing: Negotiated & Non-Conforming Rate Amd—Eversource to be effective 10/1/2020.

Filed Date: 9/3/20.

Accession Number: 20200903-5180.

Comments Due: 5 p.m. ET 9/15/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2020.
Nathaniel J. Davis, Sr.,
Deputy Secretary.

[FR Doc. 2020-20245 Filed 9-14-20; 8:45 am]

BILLING CODE 6717-01-P